INTERNATIONAL TRADE COMMISSION

[USITC SE-09-002]

Government in the Sunshine Act Meeting Notice

Agency Holding the Meeting: United States International Trade Commission.

Time and Date: January 27, 2009 at 9:30 a.m.

Place: Room 101, 500 E Street SW., Washington, DC 20436, Telephone: (202) 205-2000.

Status: Open to the public.

Matters to be Considered:

1. Agenda for future meetings: none

2. Minutes

3. Ratification List

4. Inv. No. 731-TA-1140 (Final) (Uncovered Innerspring Units from China)—briefing and vote. (The Commission is currently scheduled to transmit its determination and Commissioners' opinions to the Secretary of Commerce on or before February 11, 2009.)

5. Outstanding action jackets: none

In accordance with Commission policy, subject matter listed above, not disposed of at the scheduled meeting, may be carried over to the agenda of the following meeting.

By order of the Commission:
Issued: January 15, 2009.
William R. Bishop,
Hearings and Meetings Coordinator.

[FR Doc. E9-1213 Filed 1-21-09; 8:45 am]

BILLING CODE 7020-02-P